DEPARTMENT OF ENERGY

Federal Energy Regulatory Commission

[Docket No. PR01-1-000]

Associated Natural Gas Company; Notice of Offer of Settlement

May 2, 2001.

Take notice that on April 18, 2001, Associated Natural Gas Company (ANG) tendered for filing a Stipulation and Agreement in the above referenced proceeding. The proposed Settlement established a firm reservation charge of $1.04146 per MMBtu, a maximum usage charge of $0.00273 per MMBtu and a maximum interruptible transportation rate of $0.03697 per MMBtu., effective November 1, 2000.

The Settlement also provides that ANG shall file on or before November 1, 2003 either (1) a new petition for rate approval under Section 284.123(b)(2) or (2) a cost-and revenue study that complies with Section 154.313 of the Commission's regulations.

Initial comments on ANG's filing are due on or before May 8, 2001 and reply comments are due on or before May 18, 2001. Comments, protests and interventions may be filed electronically via the internet in lieu of paper. See, 18 CFR 385.2001(a)(1)(iii) and the instructions on the Commission's web site at http://www.ferc.fed.us/efi/doorbell.htm.

David P. Boergers,
Secretary.

[FR Doc. 01-11487 Filed 5-7-01; 8:45 am]

BILLING CODE 6717-01-M